DEPARTMENT OF AGRICULTURE

Agricultural Marketing Service

7 CFR Part 1220

[Docket No. AMS-LPS-13-0066]

Soybean Promotion, Research, and Consumer Information Program: Amendment of Procedures and Notification of Request for Referendum

AGENCY: Agricultural Marketing Service, USDA.

ACTION: Affirmation of interim rule as a final rule.

SUMMARY: The Agricultural Marketing Service (AMS) is affirming without changes its interim rule (79 FR 12037) to amend the procedures to Request a Referendum at 7 CFR Part 1220 by removing the specific number of soybean producers eligible to request a referendum under the Soybean Promotion, Research, and Consumer Information program, commonly known as the Soybean Checkoff Program. The number of soybean producers will be replaced with language that allows the Secretary of Agriculture (Secretary) to update this number based on information provided by the U.S. Department of Agriculture (USDA). Additionally, this rule removes specific USDA and Farm Service Agency (FSA) Web site and office addresses and replaces them with more flexible language. These changes will enable AMS to announce future Requests for Referendum without engaging in additional informal rulemaking.

DATES: Effective Date: September 11, 2014.

FOR FURTHER INFORMATION CONTACT: James R. Brow, Agricultural Marketing Specialist, Research and Promotion Division, Livestock, Poultry, and Seed Program, AMS, USDA, Room 2010-S, STOP 0251, 1400 Independence Avenue SW., Washington, DC, 20250-0251; Telephone 202/720-0633; Fax 202/720-1125; email to James.Brow@ams.usda.gov.

SUPPLEMENTARY INFORMATION:

This action affirms the interim rule concerning Executive Orders 12866, 12988, and 13563; the Regulatory Flexibility Act (5 U.S.C. 601-612; the Paperwork Reduction Act (44 U.S.C. Chapter 35); and the E-Gov Act (44 U.S.C. 101). Further, for this action, the Office of Management and Budget has determined that this action is not significant under Executive Order 12866 and therefore has not been reviewed by OMB.

Background Information

The Soybean Promotion, Research, and Consumer Information Act (Act) (7 U.S.C. 6301-6311) provides for the establishment of a coordinated program of promotion and research designed to strengthen the soybean industry's position in the marketplace, and to maintain and expand domestic and foreign markets and uses for soybeans and soybean products. The program is financed by an assessment of 0.5 of 1 percent of the net market price of soybeans sold by producers. The final rule establishing a Soybean Promotion, Research, and Consumer Information program was published in the July 9, 1991, issue of the Federal Register (56 FR 31043), and assessments began on September 1, 1991.

The Act specifies that the Secretary shall, five years after the conduct of the initial referendum and every five years thereafter, provide soybean producers an opportunity to request a referendum on the Soybean Promotion, Research, and Consumer Information Order (Order). Additionally, the Act specifies that these subsequent polls require that at least 10 percent (not in excess of one-fifth in any one State) of all producers must request a referendum in order to trigger the conduct of a referendum. If a referendum is requested, it will be held within one year of that determination.

The next Request for Referendum will be conducted May 2019, at FSA county offices.

Changes to the Regulations

In the interim rule, AMS amended § 1220.616 to remove the specific number of soybean producers from the regulatory language. Data provided by FSA has been used to amend the number of soybean producers prior to any Request for Referendum. The data have been sorted in such a manner as to include all producers who were engaged in the production of soybeans in at least one of the two years prior to the Request for Referendum, excluding counting a producer more than once if that producer engaged in production during both years. Using the last two crop-year acreage reports for which complete data is available ensures that all eligible producers are counted, as some producers use soybeans in rotation with other crops and do not plant soybeans every year. This methodology is consistent with that used in previous requests for referendum and will continue to be used by USDA to update the number of eligible soybean producers.

For the 2014 Request for Referendum previously conducted and subsequent requests for referendum, the data provided by FSA allows the Secretary to update this number.

In addition to the changes relating to the number of eligible soybean producers, AMS amended §§ 1220.619, 1220.622 and 1220.628 with more flexible language.

Comments

On March 4, 2014, USDA published in the Federal Register (79 FR 12037) an interim rule with a request for comments to be received by April 3, 2014. USDA received no comments.

List of Subjects in 7 CFR Part 1220

Administrative practice and procedure, Advertising, Agricultural research, Marketing agreements, Reporting and recordkeeping requirements, Soybeans and soybean products.

For the reasons set forth in the preamble, 7 CFR Part 1220 is amended as follows:

PART 1220—SOYBEAN PROMOTION, RESEARCH, AND CONSUMER INFORMATION

Accordingly, the interim rule that amended 7 CFR Part 1220, which was published on March 4, 2014 at 79 FR 12037, is adopted as a final rule without change.

Dated: September 4, 2014.
Rex A. Barnes,
Associate Administrator.

[FR Doc. 2014-21512 Filed 9-9-14; 8:45 am]

BILLING CODE 3410-02-P